DEPARTMENT OF AGRICULTURE

Forest Service

Kaibab National Forest; North Kaibab Ranger District; Jacob Ryan Vegetation Management

AGENCY: Forest Service, USDA.

ACTION: Notice of intent to prepare an environmental impact statement.

SUMMARY: The Jacob Ryan Vegetation Management project would perform vegetation treatments on approximately 30,000 acres around Jacob Lake in Northern Arizona. The proposal would conduct ponderosa pine individual tree selection and group selection, commercial thinning, with ponderosa pine precommercial thinning of saplings, meadow restoration, fuels reduction, fuel break maintenance, hazard tree removal, and old growth and wildlife habitat management. This proposal would enhance habitat for the northern goshawk and its prey species by providing a mix of cover and more open foraging areas in accordance with the Kaibab National Forest Land and Resource Management Plan; reduce the fuel loading across the planning area; maintain fuelbreaks designed to slow the spread of wildfire; reduce the likelihood of ice on highway U.S. Highways 89A and 67 by removing trees that shade the highway; decrease the sources of dwarf mistletoe infection where they threaten the maintenance or attainment of desired forest structure; and remove young trees from selected areas that were formerly meadows.

DATES: The draft environmental impact statement is expected August 2005 and the final environmental impact statement is expected January 2006.

ADDRESSES: Send written comments to Jill Leonard, District Ranger, North Kaibab Ranger District, 430 South Main Fredonia, AZ 86022. For further information, mail correspondence to Jonathan M. Beck, Environmental Coordinator, North Kaibab Ranger District, 430 South Main Fredonia, AZ 86022.

FOR FURTHER INFORMATION CONTACT: Jonathan M. Beck, Environmental Coordinator, North Kaibab Ranger District, Forest Service USDA (see ADDRESSES above).

SUPPLEMENTARY INFORMATION:

Purpose and Need for Action

The Landscape Assessment for Jacob-Lake Planning Area identified the existing and desired conditions within the Jacob Ryan planning area. There is a need to modify the forest vegetation to put it on a trajectory toward the desired conditions for: (1) Reduced tree density (as defined by the Kaibab National Forest Land and Resource Management Plan (KNFLRMP)—e.g., because the existing vegetative structural stages (VSS) differ from the percentages recommended in the KNFLMP; (2) Sustained old growth forest, (3) Enhanced wildlife habitat (northern goshawk, goshawk prey species and other species), (4) Reduced wildfire risk; and (5) Improved scenic integrity and in turn recreation opportunities. This action responds to the goals and objectives outlined in the Kaibab National Forest, Forest Plan.

Proposed Action

The Jacob Ryan Planning Area is located in the northern part of the North Kaibab Ranger District, Coconino County, Arizona; Townships 38, 39 and 40 North; Ranges 1, 2, & 3 East and 1 West. Increases in tree density in the ponderosa pine (PP) and pinyon juniper (PJ) cover types has had a profound effect on the Jacob Ryan Planning Area. High tree densities have increased competition between trees. Intertree competition has: (1) Reduced tree growth; (2) increased tree insect and diseases susceptibility; and (3) increase the potential for intense stand replacing wildfire. Increased tree density also has an indirect effect on human safety in the planning area. Large numbers of trees beside the highway decrease site distance, and create a potentially dangerous situation for vehicles and their occupants. Hazards include winter ice retention and build-up, from tree shading along the highway, potential dead trees falling on vehicles, and vehicle-tree collisions in the highway right-of-way. Dense stands and areas with few openings in the overstory canopy inhibit the presence and growth of shrubs, forbs, and grasses and thus limit foraging opportunities for goshawks, goshawk prey species, and other wildlife species. The Forest Service proposes to use vegetation treatments to reduce tree density in the project area to meet the purpose and need. The proposed action would perform vegetation treatments on approximately 30,000 acres in the following manner:

• Approximately 22,000 acres of commercial thinning (9”+trees), precommercial thinning, and group selection (approximately 330 acres) in ponderosa pine are proposed. Of the 22,000 acres, 2,000-2,200 acres would receive only precommercial thinning. This proposal would allow thinning from below in all VSS groups.

• Perform sanitation treatments on 524 acres of dwarf mistletoe infected stands with group selection on 23 acres. These acres are reflected in the thinning and regeneration acres included in the first bullet, above..

• Restore watershed condition by thinning 1,143 acres of pinyon juniper woodland.

• Restore and maintain 263 acres of meadows by reducing encroaching blackjack pines, leave all trees >16 inches d.b.h. in the meadows.

• Amend the Kaibab National Forest Land and Resource Management Plan to restore approximately 187 acres (included in restoration acres above) of timber component 500 lands (Suited Forest Land—Timber Emphasis) to grassland/savannah—timber component 800 lands (Incompatible).

• Maintain, enhance and restore 3,300-3,400 acres of aspen groups (included in the 22,000 thinning acres above) by removing all “blackjack” ponderosa pine 12 inches d.b.h. and less from the understory or within 20 feet of the perimeter of existing aspen groups.

• Remove hazard trees and trees shading the highway where needed for daylighting hazardous portions of the highway or for increasing sight distance along 12 miles of highways 89A and 67.

• Reduce live and dead hazardous fuels on approximately 995 acres in the Wildland Urban Interface (WUI) Zone (Acres are included in the thinning acres above.) The acres within 300 feet of structures and campgrounds will be treated most intensively. If needed additional treatments could be done to maintain satisfactory conditions.

• Reduce fuels to levels consistent with Forest Plan guidelines on acreage outside of the Wildland Urban Interface (WUI).

• Conduct prescribed burning to reduce hazardous fuels on 24,141 treated acres and 9,149 non-treated acres.

• Maintain 56 miles of fuelbreaks (2,140 acres—included in thinning acres above) by removing all limbs lower than 5 feet and by removing most trees less than 9″ diameter (except in limited areas to be managed for trees less than 9″ in diameter).

• Close or re-close all roads within the project area except: Hwy 98A, Hwy 67, Forest Roads: 461, two short roads to J.L. Lookout Tower, roads in Jacob Lake Campground & Group Area, ADOT yard access road, 2098, 2284, 2333, 2366, 246, 246E, 246L, 246LA, 246T, 247, 248, 248A to bottom of canyon, 249, 249E, 257, 257G, 260, 264, 264H, 279, 279A, 280, 282, 282A, 282F, 3709, 3726, 3730, 3847, 3878, 3894, 3911, 3917A, 3989, 461, 461B, 461G, 461I, 461N, 462, 482, 482G, 482M, 487, 487A, 579, 579A, 603, 603E, 628, 628C, 634, 636, 639, 800, 800B, 800K, 8116, 9603, 9303M, 9604, 9607N, D155, D202, D261, D282, D284, D627, D447, D475, D476, D674, D679, D684, D688, D689, and D738.

Possible Alternatives

The District considered an alternative to the proposed action on November 14, 2001. This alternative limits vegetative manipulation to ponderosa pine trees, 12 inches d.b.h. and less with no hazard tree removal.

Responsible Official

Michael R. Williams—800 6th Street, Williams, AZ 86046-2899.

Nature of Decision To Be Made

Given the purpose and need, the Kaibab National Forest, Forest Supervisor will review the proposed action, the other alternatives, and their impacts to the resources in order to make the following decisions:

(1) Whether or not the Jacob Ryan Vegetation Management project will proceed as proposed in the Proposed Action.

(2) Whether or not the Jacob Ryan Vegetation Management project will proceed as described in one of the alternatives to the Proposed Action.

(3) Which mitigation measures are necessary to reduce project effects.

Scoping Process

The proposal was first listed in the October 2000 Schedule of Proposed Actions. In addition, as part of the public involvement process, the District initiated discussions with key stakeholders with the objective of collaboratively defining old growth characteristics and identifying potential treatment activities that could be “tested” within old growth vegetation as part of the Jacob Ryan Vegetation Management project in the summer of 1998. After receiving public comments, we clarified the proposal.

Preliminary Issues

The Forest identified 3 significant issues during scoping. These issues are:

(1) Managing only 20% of the Plateau for old growth will result in the lost opportunity to develop additional old growth.

(2) The proposed WUI treatment area is too large, and will remove more trees than necessary for the protection needed.

(3) Livestock grazing in the Jacob Ryan area may affect the ability to reach the ecosystem goal of meadow restoration.

Comment Requested

This notice of intent initiates the Environmental Impact Statement Process for the Jacob Ryan Vegetation Management project.

Early Notice of Important of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: July 27, 2005.
Jill Leonard,
District Ranger.

[FR Doc. 05-15400 Filed 8-3-05; 8:45 am]

BILLING CODE 3410-11-M